DEPARTMENT OF HEALTH AND HUMAN SERVICES

Agency for Healthcare Research and Quality

Request for Information on Creating a National Healthcare System Action Alliance To Advance Patient Safety

AGENCY: Agency for Healthcare Research and Quality, HHS.

ACTION: Notice of request for information.

SUMMARY: The Agency for Healthcare Research and Quality (AHRQ), on behalf of the Department of Health and Human Services (HHS), seeks public comment about advancing patient and healthcare workforce safety through the development of a National Healthcare System Action Alliance to Advance Patient Safety (Action Alliance) in partnership with healthcare systems, patients, families and caregivers, HHS and other Federal agencies, and other stakeholders to support sustained improvements in patient safety. Specifically, the RFI seeks input on how the Action Alliance can be most effective. In addition, the RFI seeks comments about innovative models of care, approaches, promising strategies, and solutions for overcoming some of the common impediments to safety being experienced in healthcare today. This request for information will inform HHS's work and more specifically the work of the Action Alliance.

DATES: Comments on this notice must be received by January 26, 2023. AHRQ will not respond individually to responders but will consider all comments submitted by the deadline.

ADDRESSES: Please submit all responses to the following email address: PSActionAlliance@AHRQ.hhs.gov.

FOR FURTHER INFORMATION CONTACT: Milli O'Brien, AHRQ Executive Secretary via email at Milli.Obrien@ahrq.hhs.gov or call 301-427-1919.

SUPPLEMENTARY INFORMATION: AHRQ, on behalf of HHS, is seeking public comment about the development of a National Healthcare System Patient Safety Action Alliance (Action Alliance) as a vehicle to advance patient and workforce safety. The Action Alliance is intended to support improvements across healthcare delivery settings (e.g., hospitals, skilled nursing facilities, ambulatory care settings, home care) and between settings of care. The Action Alliance will welcome all types of healthcare systems, including public, not-for-profit, and for-profit health systems; rural, suburban, and urban systems; and systems focused on caring for diverse populations. While focused on the delivery of care, the Action Alliance will bring together multiple stakeholders including healthcare systems, clinicians, patients, families, caregivers, professional societies, organizations focused on patient and workforce safety, the digital healthcare sector, healthcare services researchers, industry, employers, payors, and anyone committed to advancing patient and workforce safety. Recognizing that healthcare is not safe until it is safe for all, the Alliance will consider issues of equity as it strives to advance patient and workforce safety.

As HHS renews its commitment to advancing patient and workforce safety, it recognizes that the nation's healthcare systems and professionals have long been committed to patient and workforce safety. The pandemic uncovered weaknesses and inequities in the healthcare delivery system that have negatively affected patient outcomes and our workforce. HHS also recognizes that as the U.S. healthcare delivery systems recover, emerge, and transform from the COVID-19 pandemic there are many priorities, including, but not limited to improving equity, addressing staffing shortages, caring for people with Long COVID, harnessing the potential of telehealth and data sciences, responding to climate change, expanding access to behavioral healthcare, and supporting the well-being of workers. Patient and workforce safety, however, are integral to all of these priorities. Patient and workforce safety are not separate priorities they are central to everything healthcare systems do.

In order to make the Action Alliance as effective as possible, HHS seeks information on the following questions:

1. What can HHS bring to the Action Alliance in terms of coordination, alignment, tools, training, and other non-financial resources to support the effectiveness of the Action Alliance in assisting healthcare delivery systems and others in advancing patient and healthcare worker safety?

2. How can the voluntary Action Alliance most effectively support healthcare delivery systems and other stakeholders in advancing patient and workforce safety? Are there specific priorities for different types of systems or setting of care? What stakeholders should be part of the Action Alliance to make it most effective?

3. What are other national patient and workforce safety initiatives that the Action Alliance should be aware of and how can the Action Alliance best collaborate, coordinate, and avoid duplication with them?

4. How can the Action Alliance best support healthcare systems in advancing healthcare equity within their patient and workforce safety efforts, including through redesign of care delivery?

5. Are there specific practices or innovations that healthcare delivery systems or others have implemented during or post-pandemic, including practices focused on populations that experience health disparities and individuals living in rural communities, that others could benefit from learning about? Please share any specific details and sharable outcomes data regarding innovations if applicable.

6. What are the main challenges healthcare delivery systems and others are facing in meeting their commitments to advancing patient and healthcare worker safety as they emerge from the pandemic? Are there challenges that are specific to different types of systems, settings of care, or populations of people?

HHS is interested in answers to all of the questions listed above, but respondents are welcome to address as many or as few as they choose and may provide additional information about how to make the Action Alliance most effective. When responding, please identify the question to which a particular answer corresponds.

Who should respond?

Anyone may respond. For example, HHS seeks information from:

• Healthcare system leaders (e.g., CEOs, CMOs, Boards of Directors).

• Healthcare delivery organizations.

• Clinicians and other healthcare personnel who work to provide safe, effective care to patients.

• Healthcare quality leaders whose work supports refining clinical practice and providing data for the purpose of improvement.

• People, their families, and caregivers who have experienced a harm or a “close call” event as part of their interaction with the healthcare delivery system.

• Researchers and implementers developing interventions to improve patient and workforce safety.

• Clinical decision support developers who have insights into interventions that would support clinicians in making care safer for both patients and healthcare workers.

• Patient advocacy groups and organizations focused on safety and health equity.

• Clinical professional societies.

• Payers.

• Health IT vendors who implement and manage health IT and other systems that may support patient and workforce safety.

• Organizations that facilitate health information exchange (i.e., regional, or local health information exchanges, vendor-driven networks, and others) who may support sharing of healthcare quality and safety data across systems.

• Representatives from human service agencies and/or community organizations, or people with experience in addressing social determinants of health and reducing healthcare disparities for patients and communities.

• Higher education institutions that train clinicians and healthcare personnel.

This RFI is for planning purposes only and should not be construed as a policy, solicitation for applications, or as an obligation on the part of the Government to provide support for any ideas in response to it. HHS will use the information submitted in response to this RFI at its discretion and will not provide comments to any respondent's submission. However, responses to this RFI may be reflected in future initiatives, solicitation(s), or policies. The information provided will be analyzed and may appear in reports. Respondents will not be identified in any published reports. Respondents are advised that the Government is under no obligation to acknowledge receipt of the information received or provide feedback to respondents with respect to any information submitted. No proprietary, classified, confidential or sensitive information should be included in your response. The contents of all submissions may be made available to the public in the future. Submitted materials should therefore be publicly available or be able to be made public.

Dated: December 7, 2022.
Marquita Cullom,
Associate Director.

[FR Doc. 2022-26897 Filed 12-9-22; 8:45 am]

BILLING CODE 4160-90-P